ENVIRONMENTAL PROTECTION AGENCY

[ER-FRL-6648-4]

Environmental Impact Statements and Regulations; Availability of EPA Comments

Availability of EPA comments prepared pursuant to the Environmental Review Process (ERP), under section 309 of the Clean Air Act and section 102(2)(c) of the National Environmental Policy Act as amended. Requests for copies of EPA comments can be directed to the Office of Federal Activities at (202) 564-7167. An explanation of the ratings assigned to draft environmental impact statements (EISs) was published in FR dated April 04, 2003 (68 FR 16511).

Draft EISs

ERP No. D-AFS-J65397-WY Rating LO, Woodrock Project, Proposal for Timber Sale, Travel Management and Watershed Restoration, Implementation, Bighorn National Forest, Tongue Ranger District, Sheridan County, WY.

Summary: EPA has lack of objections to the proposed action based on the predicted overall improvement of forest resource conditions. EPA suggests that the final EIS provide qantification sediment from erosion estimates and monitor water quality and habitat quality in streams.

ERP No. D-AFS-K65265-AZ Rating LO, Bar T Bar Anderson Springs Allotment Management Plans to Authorize Permitted Livestock Grazing for a 10-Year Period, Coconino National Forest, Mogollon Rim and Mormon Lake Ranger District, Coconino County, AZ.

Summary: EPA has no objections to the Preferred Alternative but EPA requested more detailed information for monitoring, specifically impacts to vegetation.

ERP No. D-AFS-L65444-OR Rating LO, Eyerly Fire Salvage Project, Burned and Damaged Trees Salvage, Reforestation and Fuels Treatment, Implementation, Deschutes National Forest, Sisters Ranger District, Jefferson County, OR.

Summary: While EPA has no objection to the proposed action it did request clarification on consultation with Tribes, Environmental Justice and measures to protect workers from health risks associated with the use of fire retardants.

ERP No. D-DOE-E09014-KY Rating EC1, Paducah, Kentucky, Site Depleted Uranium Hexafluoride Conversion Facility, Construction and Operation, McCraken County, KY.

Summary: EPA expressed environmental concerns regarding the capability and capacity of the two disposal facilities to accept the proposed waste products from the Paducah conversion facility. EPA requested that DOE include this information in the final EIS.

ERP No. D-NPS-E61076-00 Rating LO, Low Country Gullah Culture Special Resource Study, Gullah Culture Preservation and Protection Analysis to Consider the Suitability and Feasibility for Inclusion in the National Park Service System, SC, NC, GA and FL.

Summary: EPA expressed lack of objections.

Dated: February 10, 2004.
Ken Mittleholtz,
Environmental Specialist, Office of Federal Activities.

[FR Doc. 04-3232 Filed 2-12-04; 8:45 am]

BILLING CODE 6560-50-P